DEPARTMENT OF ENERGY

Federal Energy Regulatory Commission

[Docket No. CP00-91-000]

National Fuel Gas Supply Corporation; Notice of Application

February 29, 2000.

Take notice that on February 22, 2000, National Fuel Gas Supply Corporation (National Fuel), 10 Lafayette Square, Buffalo, New York 14203, filed in Docket No. CP00-91-000 an application pursuant to Sections 7(b) and 7(c) of the Natural Gas Act and Part 157 of the Commission's Regulations (18 CFR 157) for a certificate of public convenience and necessity authorizing the replacement of an existing pipeline and permission and approval to abandon facilities, all as more fully set forth in the application on file with the Commission and open to public inspection. This filing may be viewed on the web at http://www.ferc.fed.us/online/rims.htm (call (202) 208-2222 for assistance).

National Fuel requests authorization to replace certain facilities in order to maintain service under existing agreements and to provide additional firm transportation service to National Fuel Gas Distribution Corporation (Distribution). Specifically, National Fuel requests authorization to: (1) Replace 12.9 miles of 8-inch diameter pipeline, known as Lines S-1 and AM-60 in Warren, McKean and Elk Counties, Pennsylvania, with 20-inch diameter pipeline; (2) abandon in place 18.9 miles of 8-inch and 10-inch pipeline, known as Line L in Warren, McKean and Elk Counties, Pennsylvania; (3) relocate, modify or abandon certain appurtenant stations in Warren, McKean and Elk Counties, Pennsylvania; and (4) add approximately 360 horsepower (hp) of compression at the Roystone Compression Station in Warren County, Pennsylvania by modifying the existing units. It is indicated that there will be no abandonment or decrease in service to any of National Fuel's customers as a result of he proposed abandonment of Line L and appurtenant stations.

National Fuel proposes to abandon the Russell City receipt point located on Line L. It is indicated that Russell City is designated as a receipt point together with several other interconnections between National Fuel and Tennessee Gas Pipeline Company under ten firm transportation agreements pursuant to its EFT Rate Schedule. National Fuel states that it would be able to meet the firm transportation requirements of these customers without the use of Russell City. It is indicated that National Fuel is in the process of seeking consent from the affected EFT Shippers.

National Fuel also proposes to abandon the Allegheny National Forest receipt point located at the interconnection between Line L and the facilities of CNG Transmission Corporation. National Fuel states that this receipt point is designated under two EFT Service Agreements but gas has not been received at this point since December 1984. As a result, the abandonment of the Allegheny National Forest receipt point will not impact any of National Fuel's shippers. It is further indicated that National Fuel is in the process of seeking consent from the two affected EFT Shippers.

National Fuel estimates that cost of the project to be $11.4 million. National Fuel states that the facilities will be financed with internally-generated funds and/or interim short-term bank loans.

National Fuel requests that the Commission grant a determination of rolled-in rate treatment with respect to the costs associated with this project. National Fuel states that the project would result in system benefits, improving the reliability and flexibility of service on its system.

In its application, National Fuel requests a waiver of Section 1.5 of its FT Rate Schedule so that it can provide service to Distribution without having to equip the delivery points and primary receipt points with real time measurement, communication and control capability. National Fuel asserts that because the FT service to Distribution would be fed by, and would feed into, a no-notice EFT service that does not require measurement information on a real time basis, installation of facilities to measure gas flowing into Line AM-60 at Lamont and out of Line AM-60 at Roystone would not be operationally necessary.

National Fuel also requests waivers of Section 2.3(a) and 2.3(d) of its EFT Rate Schedule which limits its obligations to deliver gas at any combination of delivery points to the Contract Maximum Daily Quantity (MDTQ), and limits National Fuel's aggregate receipt obligation to the sum of the MDTQ and the applicable fuel and loss allowance. National Fuel states that in connection with the implementation of the Distribution FT service, Lamont will be added as a delivery point under the Distribution EFT service and Roystone will be added as a receipt point. National Fuel asserts that it is not intended that receipts of gas from and deliveries of gas into the new Lamont to Roystone facilities will reduce Distribution's aggregate entitlements to deliver and receive gas at its pre-existing points.

Any questions regarding this application should be directed to David W. Reitz, Assistant General Counsel for National Fuel, 10 Lafayette Square, Buffalo, New York 14203 at (716) 857-7949.

Any person desiring to be heard or to make a protest with reference to said application should on or before March 14, 2000, file with the Federal Energy Regulatory Commission, 888 First Street, NE, Washington, DC 20426, a motion to intervene or protest in accordance with the requirements of the Commission's Rules of Practice and Procedure (18 CFR 385.214 or 385.211) and the Regulations under the Natural Gas Act (18 CFR 157.10). All protests filed with the Commission will be considered by it in determining the appropriate action to be taken but will not serve to make the protestant a party to the proceeding. Any person wishing to become a party to a proceeding or to participate as a party in any hearing therein must file a motion to intervene in accordance with the Commission's Rules.

Take further notice that, pursuant to the authority contained in and subject to the jurisdiction conferred upon the Commission by Sections 7 and 15 of the Natural Gas Act and the Commission's Rules of Practice and Procedure, a hearing will be held without further notice before the Commission or its designee on this application if no motion to intervene is filed within the time required herein, if the Commission on its own review of the matter finds that permission and approval for the proposed construction and abandonment are required by the public convenience and necessity. If a motion for leave to intervene is timely filed, or if the Commission on its own motion believes that a formal hearing is required, further notice of such hearing will be duly given. Under the procedures herein provided for, unless otherwise advise, it will be unnecessary for National Fuel to appear or to be represented at the hearing.

David P. Boergers,
Secretary.

[FR Doc. 00-5260 Filed 3-3-00; 8:45 am]

BILLING CODE 6717-01-M